DEPARTMENT OF HEALTH AND HUMAN SERVICES

Centers for Disease Control and Prevention

[60Day-24-0909; Docket No. CDC-2023-0096]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to comment on a continuing information collection, as required by the Paperwork Reduction Act of 1995. This notice invites comment on the proposed data collection titled, CDC Diabetes Prevention Recognition Program (DPRP). The Diabetes Prevention Recognition Program (DPRP) continues the collection of nationwide, de-identified data for the implementation of the National Diabetes Prevention Program (National DPP) lifestyle change program using a set of evidence-based standards.

DATES: CDC must receive written comments on or before February 13, 2024.

ADDRESSES: You may submit comments, identified by Docket No. CDC-2023-0096 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

CDC Diabetes Prevention Recognition Program (DPRP)—Revision—National Center for Chronic Disease Prevention and Health Promotion (NCCDPHP), Centers for Disease Control and Prevention (CDC).

Background and Brief Description

CDC's Division of Diabetes Translation (DDT) established and administers the National Diabetes Prevention Recognition Program (DPRP), which recognizes organizations that deliver a diabetes prevention program according to evidence-based requirements set forth in the CDC's Diabetes Prevention Recognition Program Standards and Operating Procedures (DPRP Standards). Additionally, the Centers for Medicare & Medicaid Services (CMS) Medicare Diabetes Prevention Program (MDPP) expansion of CDC's National DPP was announced in early 2016, when the Secretary of Health and Human Services (HHS) determined that the Diabetes Prevention Program met the statutory criteria for inclusion in Medicare's expanded list of health care services for beneficiaries (https://cmmi.my.site.com/mdpp/). This was the first time a preventive service model from the CMS Innovation Center was expanded into Medicare. After extensive testing of this model in 17 sites across the US from 2014-2016, CMS proposed the MDPP in Sections 1102 and 1871 of the Social Security Act (42 U.S.C. 1302 and 1395hh section 424.59), authorizing CDC-recognized organizations to prepare for enrollment as MDPP suppliers beginning in January 2018 in order to bill CMS for these services. Only organizations in good standing with the CDC DPRP are eligible as MDPP suppliers. CDC continues to work with CMS to support the MDPP.

CDC requests an additional three years of OMB approval to continue collecting the information needed to administer the DPRP and provide information needed by CMS to support the MDPP benefit. Based on experience with the DPRP from 2011-2023, including data analysis and feedback from applicant organizations and internal and external partners, CDC plans to revise the DPRP Standards and the associated information collection. Key changes are a direct result of DPRP data analyses, recent literature reviews, and discussion with National DPP stakeholders, including those serving socially vulnerable populations. Key changes to the evaluation data collection instrument allow for the collection of participant zip codes (for aggregate reporting only, not to be reported per each individual participant); an OMB-recommended 6-point disability variable; a health equity-related social determinants of health (SDOH) variable set (to assess whether there was a social needs assessment conducted; key SDOH issues identified; and whether any action was taken); a Middle Eastern or North African write-in option within the current race/ethnicity variable; and two new options for the current payersource variable.

Key changes to the application data collection instrument allow for: (1) a yes/no drop-down question asking if an organization's zip code is in an area of high social vulnerability based on the Social Vulnerability Index, which would permit an in-person organization to be fast-tracked to preliminary recognition status to allow the organization to apply to CMS to become an MDPP supplier; (2) revisions to the Combination delivery mode to include an option for in-person delivery with a distance learning component; and (3) collection of a projected program start-date.

During the period of this Revision, CDC estimates receipt of approximately 200 DPRP application forms per year from new organizations. The estimated burden per one-time application response is one hour. In addition, CDC estimates receipt of semi-annual evaluation data submissions from the same 200 additional organizations per year, estimated at two hours per response. The total estimated average annualized evaluation burden to new respondents is 2,400 hours. This includes an estimate of the time needed to extract and compile the required data records and fields from an existing electronic database, review the data, and enter the data via the DPRP Data Portal. CDC also has 1,500 currently recognized organizations that will continue to submit semi-annual evaluation data. The estimated burden per response is modest, since the information requested for DPRP recognition is routinely collected by most organizations that deliver the National DPP lifestyle change program for their own internal evaluation and possible insurance reimbursement purposes, including the MDPP benefit. Participation in the DPRP is voluntary, data are de-identified, no personally identifiable information (PII) is collected by CDC, and there are no costs to respondents other than their time. CDC is requesting a three-year revised approval. The total estimated annual burden hours requested is 7,400.

Estimated Annualized Burden Hours for New Organizations
Type of respondent | Form name | Number of respondents | Number of responses per respondent | Avg. burden per response (in hours) | Total burden (in hours)
Public sector organizations that deliver the National DPP lifestyle change program | DPRP Application Form DPRP Evaluation Data | 80 680 | 1 2 | 1 2 | 80 2,720
Private sector organizations that deliver the National DPP lifestyle change program | DPRP Application Form DPRP Evaluation Data | 120 1,120 | 1 2 | 1 2 | 120 4,480
Total |  |  |  |  | 7,400

Jeffrey M. Zirger,
Lead, Information Collection Review Office, Office of Public Health Ethics and Regulations, Office of Science, Centers for Disease Control and Prevention.

[FR Doc. 2023-27550 Filed 12-14-23; 8:45 am]

BILLING CODE 4163-18-P